DEPARTMENT OF HOUSING AND URBAN DEVELOPMENT

[Docket No. FR-4741-C-03]

Fair Market Rents for the Housing Choice Voucher Program and Moderate Rehabilitation Single Room Occupancy Program Fiscal Year 2003; Correction

AGENCY: Office of Policy Development and Research, HUD.

ACTION: Notice of final Fiscal Year (FY) 2003 fair market rents (FMRs); correction.

SUMMARY: This notice corrects final FY 2003 Fair Market Rents for nine areas: San Francisco, CA, PMSA; Binghamton, NY, MSA; Elmira, NY, MSA; Jamestown, NY, MSA; Utica-Rome, NY, MSA; Oklahoma City, OK, MSA; Altoona, PA, MSA; Henderson County, TX, and Culpeper County, VA, as published in the Federal Register on September 30, 2002 (67 FR 61382).

EFFECTIVE DATE: October 1, 2002.

FOR FURTHER INFORMATION CONTACT: Gerald Benoit, Director, Real Estate and Housing Performance Division, Office of Public and Assisted Housing Delivery, telephone (202) 708-0477, responsible for decisions on how fair market rents are used. For technical information on the methodology used to develop fair market rents or a listing of all fair market rents, please call HUD User at 1-800-245-2691 or access the information on the HUD Web site, http://www.huduser.org/datasets/fmr.html. Further questions on the methodology may be addressed to Marie L. Lihn, Economic and Market Analysis Division, Office of Economic Affairs, telephone (202) 708-0590, Extension 5866 (e-mail: marie_1._lihn@hud.gov). Hearing-or speech-impaired persons may use the Telecommunications Devices for the Deaf (TDD) at 1-800-927-7589. (Other than the “800” HUD User and TDD numbers, telephone numbers are not toll free.)

SUPPLEMENTARY INFORMATION: On September 30, 2002 (67 FR 61382), HUD published its Notice of Fiscal Year 2003 Fair Market Rents (FMRs) for the Housing Choice Voucher Program and Moderate Rehabilitation Single-Room Occupancy Program. This notice makes technical corrections to the market rents in nine areas. These corrections are made because incorrect application of state minimum rents resulted in some minor decreases for certain bedroom rents in Binghamton, NY, Elmira, NY, Jamestown, NY, Utica-Rome, NY, and Altoona, PA. In addition, a calculation error resulted in lower FMRs for two metropolitan counties, Henderson County, TX and Culpeper County, VA. Finally, the San Francisco, CA and Oklahoma City, OK FMR areas have been recalculated and corrected.

Accordingly, FR Doc 02-24619, the Notice of Fiscal Year 2003 Fair Market Rents for the Housing Choice Voucher Program and Moderate Rehabilitation Single-Room Occupancy Program, published on September 30, 2002 (67 FR 61382) is corrected as follows:

1. On page 61388, in the table under California, Metropolitan FMR Areas, the entries for San Francisco are corrected to read as follows:

2003 Fair market rent | Number of bedrooms: 0 BR | Number of bedrooms: 1 BR | Number of bedrooms: 2 BR | Number of bedrooms: 3 BR | Number of bedrooms: 4 BR
San Francisco, CA PMSA | $1,185 | $1,535 | $1,940 | $2,661 | $2,816

2. On page 61418, in the table under New York, Metropolitan FMR Areas, the entries for Binghamton, Elmira, Jamestown, and Utica-Rome are corrected to read as follows:

2003 Fair market rent | Number of bedrooms: 0 BR | Number of bedrooms: 1 BR | Number of bedrooms: 2 BR | Number of bedrooms: 3 BR | Number of bedrooms: 4 BR
Binghamton, NY MSA | $375 | $421 | $526 | $667 | $749
Elmira, NY MSA | 375 | 421 | 517 | 655 | 780
Jamestown, NY MSA | 375 | 421 | 507 | 655 | 749
Utica-Rome, NY MSA | 375 | 421 | 507 | 655 | 749

3. On page 61422, in the table under Oklahoma, Metropolitan FMR Areas, the entries for Oklahoma City are corrected to read as follows:

2003 Fair market rent | Number of bedrooms: 0 BR | Number of bedrooms: 1 BR | Number of bedrooms: 2 BR | Number of bedrooms: 3 BR | Number of bedrooms: 4 BR
Oklahoma City, OK MSA | $412 | $448 | $581 | $807 | $903

4. On page 61424, in the table under Pennsylvania, Metropolitan FMR Areas, the entries for Altoona are corrected to read as follows:

2003 Fair market rent | Number of bedrooms: 0 BR | Number of bedrooms: 1 BR | Number of bedrooms: 2 BR | Number of bedrooms: 3 BR | Number of bedrooms: 4 BR
Altoona, PA MSA | $304 | $387 | $463 | $604 | $676

5. On page 61429, in the table under Texas, Metropolitan FMR Areas, the entries for Henderson County are corrected to read as follows:

2003 Fair market rent | Number of bedrooms: 0 BR | Number of bedrooms: 1 BR | Number of bedrooms: 2 BR | Number of bedrooms: 3 BR | Number of bedrooms: 4 BR
Henderson County, TX | $343 | $408 | $498 | $679 | $815

6. On page 61433, in the table under Virginia, Metropolitan FMR Areas, the entries for Culpeper County are corrected to read as follows:

2003 Fair market rent | Number of bedrooms: 0 BR | Number of bedrooms: 1 BR | Number of bedrooms: 2 BR | Number of bedrooms: 3 BR | Number of bedrooms: 4 BR
Culpeper County, VA | $435 | $634 | $737 | $974 | $1,167

Dated: October 16, 2002.
Harold L. Bunce,
Deputy Assistant Secretary for Economic Affairs.

[FR Doc. 02-26763 Filed 10-21-02; 8:45 am]

BILLING CODE 4210-62-P